NUCLEAR REGULATORY COMMISSION

[Docket No. NRC-2014-0027]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on April 14, 2014.

1. Type of submission, new, revision, or extension: Revision.

2. The title of the information collection: Design Information Questionnaire—International Atomic Energy Agency (IAEA) N-71 and Associated Forms N-72, N-73, N-74, N-75, N-76, N-77, N-91, N-92, N-93, N-94.

3. Current OMB approval number: 3150-0056.

4. The form number if applicable: IAEA Form N-71 (and the appropriate associated IAEA Form) or Form N-91, to provide information concerning their installation for use by the IAEA.

5. How often the collection is required: It is estimated that this collection is required approximately 1 time per year.

6. Who will be required or asked to report: Licensees of facilities on the United States (U.S.) eligible list who have been notified in writing by the NRC to submit the form.

7. An estimate of the number of annual responses: 2.

8. The estimated number of annual respondents: 2.

9. An estimate of the total number of hours needed annually to complete the requirement or request: 360 reporting hours.

10. Abstract: In order for the U.S. to fulfill its responsibilities as a participant in the U.S./IAEA Safeguards Agreement, the NRC must collect information from licensees about their installations and provide it to the IAEA. Licensees of facilities that appear on the U.S. eligible list and have been notified in writing by the NRC are required to complete and submit a Design Information Questionnaire, IAEA Form N-71 (and the appropriate associated IAEA Form) or Form N-91, to provide information concerning their installation for use by the IAEA.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by August 20, 2014. Comments received after this date will be considered if it is practical to do so, but assurance of consideration cannot be given to comments received after this date.

Danielle Jones, Desk Officer, Office of Information and Regulatory Affairs (3150-0056), NEOB-10202, Office of Management and Budget, Washington, DC 20503.

Comments can also be emailed to Danielle_Y_Jones@omb.eop.gov or submitted by telephone at 202-395-1741.

The Acting NRC Clearance Officer is Brenda Miles, telephone: 301-415-7884.

Dated at Rockville, Maryland, this 15th day of July 2014.
For the Nuclear Regulatory Commission.
Brenda Miles,
Acting NRC Clearance Officer, Office of Information Services.

[FR Doc. 2014-16992 Filed 7-18-14; 8:45 am]

BILLING CODE 7590-01-P